DEPARTMENT OF COMMERCE

National Oceanic and Atmospheric Administration

50 CFR Part 635

[I.D. 121200G]

Atlantic Highly Migratory Species (HMS) Fisheries; Pelagic Shark Species

AGENCY: National Marine Fisheries Service (NMFS), National Oceanic and Atmospheric Administration (NOAA), Commerce.

ACTION: Commercial fishing quota notification.

SUMMARY: NMFS notifies eligible participants of commercial quotas for pelagic shark species for the 2001 fishing year. These quotas are consistent with the regulations issued in May 1999 to implement the Fishery Management Plan for Atlantic Tunas, Swordfish, and Sharks.

DATES: The fishery opening for pelagic sharks is January 1, 2001.

FOR FURTHER INFORMATION CONTACT: Margo Schulze-Haugen or Karyl Brewster-Geisz, 301-713-2347; fax 301-713-1917.

SUPPLEMENTARY INFORMATION: The Atlantic shark fishery is managed under the Fishery Management Plan for Atlantic Tunas, Swordfish, and Sharks (HMS FMP), and its implementing regulations are found at 50 CFR part 635 issued under the authority of the Magnuson-Stevens Fishery Conservation and Management Act (16 U.S.C. 1801 et seq.).

On June 30, 1999, in the course of a lawsuit brought by commercial shark fishermen and dealers, NMFS was enjoined from enforcing the 1999 regulations, 64 FR 29090 (May 28, 1999), regarding Atlantic shark commercial catch quotas and fish-counting methods (including the counting of dead discards and state commercial landings after Federal closures) that are different from the quotas and fish-counting methods prescribed by the 1997 Atlantic shark regulations, 62 FR 16648 (April 7, 1997). On November 22, 2000, NMFS and the Plaintiffs signed a settlement agreement. On December 7, 2000, the Court stipulated to the agreement and dissolved the injunction against the 1999 HMS FMP commercial shark regulations.

NMFS is now implementing and enforcing the pelagic shark quotas established in the May 28, 1999, regulations (64 FR 29090). The annual 2001 pelagic shark quota is as follows: porbeagle sharks, 92 mt dw; blue sharks, 273 mt dw; and pelagic sharks other than porbeagle sharks, 488 mt dw. The first semiannual quota for pelagic sharks is as follows: porbeagle sharks, 46 mt dw; blue sharks, 136.5 mt dw; and pelagic sharks other than porbeagle sharks, 244 mt dw. This fishery will open on January 1, 2001. When the quotas are projected to be reached for this fishery, NMFS will file notification of closure at the Office of the Federal Register at least 14 days before the effective date.

This document does not change the quotas or fishing season lengths announced on December 5, 2000, for large or small coastal sharks (65 FR 75867). NMFS is currently developing an emergency rule consistent with the settlement agreement for these fisheries.

Those vessels that have not been issued a limited access permit under 50 CFR 635.4 may not sell sharks and are subject to the recreational retention limits and size limits specified at 50 CFR 635.22(c) and 635.20(d), respectively. The recreational fishery is not affected by any closure in the commercial fishery.

Classification

This action is taken under 50 CFR part 635 and is exempt from review under Executive Order 12866.

Authority: 16 U.S.C. 1801 et seq.

Dated: December 26, 2000.
Val Chambers,
Acting Director, Office of Sustainable Fisheries, National Marine Fisheries Service.

[FR Doc. 00-33449 Filed 12-29-00; 8:45 am]

BILLING CODE 3510-22-S